ENVIRONMENTAL PROTECTION AGENCY

[EPA-HQ-OPP-2003-0397; FRL-8374-6]

Molinate; Product Cancellation Order and Amendment to Terminate Uses

AGENCY: Environmental Protection Agency (EPA).

ACTION: Notice.

SUMMARY: This notice announces EPA's amendment to the order for the termination of uses, voluntarily requested by the registrant and accepted by the Agency, of products containing the pesticide molinate, pursuant to section 6(f)(1) of the Federal Insecticide, Fungicide, and Rodenticide Act (FIFRA), as amended. This amendment follows an April 7, 2004 Federal Register Notice of Order to Amend Registrations to Terminate Uses of molinate to control water grass in rice grown in California and the south central/south eastern states of Arkansas, Louisiana, Missouri, Tennessee, and Texas. Nothing in today's action changes the previous stop production date of June 30, 2008, nor does it change the stop use date of August 31, 2009. Today's action only clarifies the deadline for persons other than the registrant to sell and distribute molinate until July 1, 2009.

DATES: The cancellation amendment is effective July 30, 2008.

FOR FURTHER INFORMATION CONTACT: Wilhelmena Livingston, Special Review and Reregistration Division (7508P), Office of Pesticide Programs, Environmental Protection Agency, 1200 Pennsylvania Ave., NW., Washington, DC 20460-0001; telephone number: (703) 308-8025; fax number: (703) 308-8005; e-mail address: livingston.wilhelmena@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2003-0397. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the amendment of the April 7, 2004 (69 FR 18368) (FRL-7350-9) order to amend registrations to terminate uses of certain end-use molinate products registered under section 3 of FIFRA. These registrations are listed in sequence by registration number in Table 1 of this unit.

Table 1—Molinate Products Affected
EPA Registration Number | Product Name
100-981 | Riceco Molinate Technical
100-982 | Riceco Touche
100-983 | Molinate 15-G
100-1021 | Ordram 8-E An emulsufiable liquid
100-1036 | Arrosolo 3-3E
100-1039 | Ordram 15-G
100-1040 | Ordram Technical
100-1102 | Ordram 15GM Rice Herbicide
74530-7 | Molinate Technical
CA77015900 | Ordram 8-E an emulsufiable liquid
CA84017200 | Ordram 8-E an emulsufiable liquid
CA85005300 | Ordram 8-E an emulsufiable liquid
TX81002600 | Ordram 8-E an emulsufiable liquid
TN93000700 | Ordram 15-G

Table 2 of this Unit includes the name and address of record for the Registrants of the product in Table 1 of this Unit, in seqence by EPA company number:

Table 2—Registrants of Amended Molinate Products
EPA Company Number | Company Name and Address
100 | Syngenta Crop Protection, Inc.P.O. Box 18300 Greenboro, NC 27419-8300
74530 | Helm Agro U.S., Inc. Nordkanalstrasse 28D-20097 Hamburg, Germany

On April 7, 2004, EPA published a Cancellation Order with respect to products containing S-ethyl hexahyfor-1H-azepine-1-carbothioate (monlinate) (69 FR 18368). That order provided: “The cancellation of these registrations has an effective date of June 30, 2008. After that date, Syngenta Crop Protection Inc., and Helm Agro U.S. Inc, may not sell or distribute any molinate products except as detailed in the cancellation order. Syngenta Crop Protection, Inc., and Helm Agro U.S. Inc., will be permitted to distribute the molinate active ingredient in 2009 for the purposes of facilitating usage by August 31, 2009. No use of products containing molinate is permitted after the 2009 growing season (August 31, 2009).”

Today's action is intended to clarify that in the case of molinate, the original August 31, 2009 deadline for cessation of use was established to provide a reasonable time for the material to work through the channels of trade following the cessation of sale and distribution of molinate products by the registrants, Syngenta Crop Protection, Inc., and Helm Agro U.S. Inc., on June 30, 2008. Today's action does not affect the cancellation of the registrations in Table 1 of Unit II. In addition, clarifying that persons other than the registrants (distributors and retailers) may sell and distribute molinate will neither conflict with the Agency's application of the guidelines outlined in PR Notice 97-7, nor will it introduce more molinate into the pesticide use cycle than had been stipulated by the terms of the five year phase-out. Allowing additional time for distributors and retailers to sell and distribute molinate to end users was contemplated by the original cancellation order by continuing to allow distribution and use. Clarifying this intent will ensure that this product is utilized safely, in accordance with the approved labeling requirements. Thus, today's action clarifies that persons other than the registrant may sell and distribute molinate until July 1, 2009. After July 1, 2009, all sale and distribution is prohibited, except for the purposes of disposal or export. Today's action does not change that end users with existing stocks of products containing molinate may continue to use these products until August 31, 2009, provided that the use complies with previously EPA approved product label requirements for the respective products. Thereafter, all use shall be prohibited except that existing stocks held by end users may be transported for purposes of disposal or returning unused product to the manufacturer or point-of-sale.

III. Amended Order

EPA hereby amends the April 7, 2004 order to clarify the provisions for the disposition of existing stocks. Existing stocks are stocks of registered pesticide product which are currently in the United States and which have been packaged, labeled, and released for shipment prior to the effective date of the cancellation order, which in this case is June 30, 2008. Specifically, persons other than the registrant (distributors and retailers) may sell and distribute products listed in Table 1 of Unit II containing molinate until July 1, 2009. After July 1, 2009, all sale and distribution is prohibited, except for the purposes of disposal or export. End users may continue to use existing stocks until August 31, 2009, provided that the use complies with previously EPA approved product label requirements for the respective products. Thereafter, all use shall be prohibited except that existing stocks held by end users may be transported for purposes of disposal or returning of unused product to the manufacturer or point-of-sale.

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

List of Subjects

Environmental protection, Pesticides and pests.

Dated: July 24, 2008.
Steven Bradbury,
Director, Special Review and Reregistration Division, Office of Pesticide Programs.

[FR Doc. E8-17475 Filed 7-29-08]

BILLING CODE 6560-50-S